DEPARTMENT OF COMMERCE

International Trade Administration

Automotive Trade Mission to New Delhi, Pune and Chennai, India

AGENCY: International Trade Administration, Department of Commerce.

ACTION: Notice; cancellation.

SUMMARY: The United States Department of Commerce, International Trade Administration, Industry and Analysis previously published a document in the Federal Register on November 25, 2013, 78 FR 70278, regarding the Automotive Trade Mission to New Delhi, Pune and Chennai, India scheduled for April 24—30, 2014. This mission has been cancelled. Please update the existing notice with a note that this mission is cancelled as of February 19, 2014.

FOR FURTHER INFORMATION CONTACT: Frank Spector, Industry and Analysis, Trade Promotion Programs, Phone: 202-482-2054; Fax: 202-482-9000, Email: Frank.Spector@trade.gov.

Cancellation Notice

In the Federal Register Notice of November 25, 2013, 78 FR 70278 on page 70278, title note at top of page, correct the subject heading of the notice to read: Automotive Trade Mission to New Delhi, Pure and Chennai, India has been cancelled, April 24-30, 2014.

Dated: February 19, 2014.
Elnora Moye,
Trade Program Assistant.

[FR Doc. 2014-04504 Filed 2-28-14; 8:45 am]

BILLING CODE 3510-DR-P